INTERNATIONAL TRADE COMMISSION

[Investigation No. 731-TA-919 (Second Review)]

Certain Welded Large Diameter Line Pipe From Japan

Determination

On the basis of the record ¹ developed in the subject five-year review, the United States International Trade Commission (Commission) determines,² pursuant to section 751(c) of the Tariff Act of 1930 (19 U.S.C. 1675(c)), that revocation of the antidumping duty order on certain welded large diameter line pipe from Japan would likely to lead to continuation or recurrence of material injury to an industry in the United States within a reasonably foreseeable time.

¹ The record is defined in sec. 207.2(f) of the Commission's Rules of Practice and Procedure (19 CFR 207.2(f)).

² Commissioner Daniel R. Pearson dissenting.

Background

The Commission instituted this review on October 1, 2012 (77 FR 59973) and determined on January 4, 2013 that it would conduct a full review (78 FR 3916, January 7, 2013). Notice of the scheduling of the Commission's review and of a public hearing to be held in connection therewith was given by posting copies of the notice in the Office of the Secretary, U.S. International Trade Commission, Washington, DC, and by publishing the notice in the Federal Register on February 25, 2013 (78 FR 12784). The hearing was held in Washington, DC, on August 1, 2013, and all persons who requested the opportunity were permitted to appear in person or by counsel.

The Commission completed and filed its determination in this review on September 26, 2013. The views of the Commission are contained in USITC Publication 4427 (September 2013), entitled Certain Welded Large Diameter Line Pipe from Japan: Investigation No. 731-TA-919 (Second Review).

By order of the Commission.
Issued: September 26, 2013.
Lisa R. Barton,
Acting Secretary to the Commission.

[FR Doc. 2013-23989 Filed 10-1-13; 8:45 am]

BILLING CODE 7020-02-P